DEPARTMENT OF AGRICULTURE

Agricultural Marketing Service

[Doc. No. AMS-SC-25-0386]

Vidalia Onions Grown in Georgia; Continuance Referendum

AGENCY: Agricultural Marketing Service, USDA.

ACTION: Referendum order.

SUMMARY: This document directs that a referendum be conducted among eligible Vidalia onion producers to determine whether they favor continuance of the marketing order regulating the handling of Vidalia onions grown in Georgia.

DATES: The referendum will be conducted from January 12 through February 3, 2026. Only current Vidalia onion producers who have grown onions within the designated production area during the period January 1, 2024, through December 31, 2024, are eligible to vote in this referendum.

ADDRESSES: Copies of the marketing order may be obtained from the office of the referendum agents at 1124 1st Street South, Winter Haven, FL 33880; telephone: (863) 324-3375; or from the Docket Clerk, Market Development Division, Specialty Crops Program, AMS, USDA, 1400 Independence Avenue SW, STOP 0237, Washington, DC 20250-0237; telephone (202) 720-8085; or on the internet: https://www.ecfr.gov/current/title-7/subtitle-B/chapter-IX/part-955.

FOR FURTHER INFORMATION CONTACT: Delaney Fuhrmeister, Marketing Specialist, or Christian D. Nissen, Branch Chief, Southeast Region Branch, Market Development Division, Specialty Crops Program, AMS, USDA, 1124 1st Street South, Winter Haven, FL 33880; telephone: (863) 324-3375; or email: Delaney.Fuhrmeister@usda.gov or Christian.Nissen@usda.gov.

SUPPLEMENTARY INFORMATION: Pursuant to Marketing Order No. 955, as amended (7 CFR part 955), hereinafter referred to as the “Order,” and the applicable provisions of the Agricultural Marketing Agreement Act of 1937, as amended (7 U.S.C. 601-674), hereinafter referred to as the “Act,” it is hereby directed that a referendum be conducted to ascertain whether continuance of the Order is favored by Vidalia onion producers in Georgia. The referendum will be conducted from January 12 through February 3, 2026, among Vidalia onion producers in the production area. Only current Vidalia onion producers that were engaged in the production of Vidalia onions during the period of January 1, 2024, through December 31, 2024, may participate in the continuance referendum.

USDA has determined that continuance referenda are an effective means for determining whether producers favor the continuation of marketing order programs. USDA will consider termination of the Order if less than two-thirds of the producers voting in the referendum, or producers of less than two-thirds of the volume represented in the referendum, favor continuance. In evaluating the merits of continuance versus termination, USDA will not exclusively consider the results of the continuance referendum. USDA will also consider all other relevant information concerning the operation of the Order and relative benefits and costs to producers, handlers, and consumers to determine whether continued operation of the Order would tend to effectuate the declared policy of the Act.

In accordance with the Paperwork Reduction Act of 1995 (44 U.S.C. chapter 35), the ballot materials used in the referendum have been approved by the Office of Management and Budget (OMB) and have been assigned OMB No. 0581-0178, Vegetable and Specialty Crops. It has been estimated it will take an average of 20 minutes for each of the approximately 80 Vidalia onion producers to cast a ballot. Participation is voluntary. Ballots postmarked after February 3, 2026, will not be included in the vote tabulation.

Delaney Fuhrmeister, Steven Kauffman, and Christian D. Nissen of the Southeast Region Branch, Specialty Crops Program, AMS, USDA, are hereby designated as the referendum agents of the Secretary of Agriculture to conduct this referendum. The procedure applicable to the referendum shall be the “Procedure for the Conduct of Referenda in Connection with Marketing Orders for Fruits, Vegetables, and Nuts Pursuant to the Agricultural Marketing Agreement Act of 1937, as Amended” (7 CFR 900.400 et seq.).

Ballots and voting instructions will be sent by U.S. mail, or through electronic mail, to all Vidalia onion producers of record and may also be obtained from the referendum agents or their appointees.

(Authority: 7 U.S.C. 601-674.)

Erin Morris,
Administrator, Agricultural Marketing Service.

[FR Doc. 2025-22570 Filed 12-10-25; 8:45 am]

BILLING CODE 3410-02-P